ENVIRONMENTAL PROTECTION AGENCY

[IL229-1; FRL-8251-5]

Notice of Prevention of Significant Deterioration Final Determination for City of Springfield

AGENCY: Environmental Protection Agency (EPA).

ACTION: Notice of final action.

SUMMARY: This notice announces that on October 5, 2006, the Environmental Appeals Board (EAB) of the EPA denied a petition for review of a Federal Prevention of Significant Deterioration (PSD) permit issued to City of Springfield, Illinois, by the Illinois Environmental Protection Agency (IEPA).

DATES: The effective date for the EAB's decision is October 5, 2006. Pursuant to Section 307(b)(1) of the Clean Air Act, 42 U.S.C. 7607(b)(1), judicial review of this permit decision, to the extent it is available, may be sought by filing a petition for review in the United States Court of Appeals for the Seventh Circuit within 60 days of December 6, 2006.

ADDRESSES: The documents relevant to the above action are available for public inspection during normal business hours at the following address: Environmental Protection Agency, Region 5, 77 West Jackson Boulevard (AR-18J), Chicago, Illinois 60604. To arrange viewing of these documents, call Constantine Blathras at (312) 886-0671.

FOR FURTHER INFORMATION CONTACT: Constantine Blathras, Air and Radiation Division, Air Programs Branch, Environmental Protection Agency, Region 5, 77 W. Jackson Boulevard (AR-18J), Chicago, Illinois 60604. Anyone who wishes to review the EAB decision can obtain it at http://www.epa.gov/eab/.

SUPPLEMENTARY INFORMATION:

Notification of EAB Final Decision

The IEPA, acting under authority of a PSD delegation agreement, issued a PSD permit to the City of Springfield on August 10, 2006, granting approval to construct a new 250 megawatt coal-fired electric generating unit at the City of Springfield's existing power plant in Sangamon County, Illinois. Mr. David Maulding filed a petition for review with the EAB on September 8, 2006. The EAB denied the petition on October 5, 2006.

Dated: November 20, 2006.
Bharat Mathur,
Deputy Regional Administrator, Region 5.

[FR Doc. E6-20649 Filed 12-5-06; 8:45 am]

BILLING CODE 6560-50-P